DEPARTMENT OF HEALTH AND HUMAN SERVICES

Centers for Disease Control and Prevention

Disease, Disability, and Injury Prevention and Control Special Emphasis Panel: Cooperative Agreements for Prevention Research Centers, Program Announcements 98047 and 01101

In accordance with section 10(a)(2) of the Federal Advisory Committee Act (Pub. L. 92-463), the Centers for Disease Control and Prevention (CDC) announces the following meeting.

Name: Disease, Disability, and Injury Prevention and Control Special Emphasis Panel (SEP): Cooperative Agreements for Prevention Research Centers, Program Announcements 98047 and 01101, meeting.

Times and Dates: 8:30 a.m.—8:55 a.m., June 25, 2002 (Open); 9 a.m.—5 p.m., June 25, 2002 (Closed); 8 a.m.—5 p.m., June 26, 2001 (Closed).

Place: Sheraton Colony Hotel, 188 14th Street, N.E., Atlanta, GA 30361.

Status: Portions of the meeting will be closed to the public in accordance with provisions set forth in section 552b(c)(4) and (6), Title 5 U.S.C., and the Determination of the Deputy Director for Program Management, CDC, pursuant to Public Law 92-463.

Matters to Be Discussed: The meeting will include the review, discussion, and evaluation of award applications received in response to Program Announcements #98047 and 01101.

For Further Information Contact: Mike Waller, Deputy Branch Chief, Healthcare and Aging Studies Branch, Centers for Disease Control and Prevention, National Center for Chronic Disease Prevention and Health Promotion, 4770 Buford Highway, m/s K45, Atlanta, GA., 30341. Telephone 770.488.5269, e-mail mnw1@cdc.gov.

The Director, Management Analysis and Services office has been delegated the authority to sign Federal Register notices pertaining to announcements of meetings and other committee management activities, for both the Centers for Disease Control and Prevention and the Agency for Toxic Substances and Disease Registry.

Dated: June 3, 2002.
Joseph E. Salter,
Acting Director, Management Analysis and Services Office, CDC.

[FR Doc. 02-14323 Filed 6-6-02; 8:45 am]

BILLING CODE 4163-18-P